DEPARTMENT OF THE INTERIOR

Bureau of Land Management

[OR-030-01-1220-AA: GPO1-0113]

Notice of Postponement of Meeting of the National Historic Oregon Trail Interpretive Center Advisory Board

AGENCY: Bureau of Land Management (BLM), Vale District, Oregon.

ACTION: Notice of postponement of meeting.

SUMMARY: Notice is given that the meeting of the National Historic Oregon Trail Interpretive Center Advisory Board scheduled for April 19, 2001, at the Sunridge Inn in Baker City, Oregon, has been postponed. BLM will provide notice when the meeting is rescheduled.

FOR FURTHER INFORMATION CONTACT: David B. Hunsaker, Bureau of Land Management National Historic Oregon Trail Interpretive Center, P.O. Box 987, Baker City, Oregon 97814, (541) 523-1845.

Dated: April 13, 2001.
Josephine Gabiola,
Acting Vale District Manager.

[FR Doc. 01-9660 Filed 4-17-01; 8:45 am]

BILLING CODE 4310-33-P